DEPARTMENT OF COMMERCE

Foreign-Trade Zones Board

[B-24-2013]

Foreign-Trade Zone 169—Manatee County, Florida; Application for Production Authority; ASO, LLC; Subzone 169A (Textile Fabric Adhesive Bandage Coating and Production); Sarasota, Florida

An application has been submitted to the Foreign-Trade Zones Board (the Board) by ASO LLC (ASO), operator of Subzone 169A, for its facility located in Sarasota, Florida. The application conforming to the requirements of the regulations of the Board (15 CFR 400.23) was docketed on March 19, 2013.

The ASO facility (270 employees, 31 acres/150,000 square feet) is located within Subzone 169A, in Sarasota, Florida. The facility is used for the production of plastic and textile fabric adhesive bandages. ASO is also proposing to coat foreign uncoated textile fabric under FTZ procedures. Production under FTZ procedures could exempt ASO from customs duty payments on the foreign textile fabrics used in export production. The company anticipates that some four percent of the plant's shipments will be exported. On its domestic sales, ASO would be able to choose the duty rate during customs entry procedures that applies to textile fabric adhesive bandages (duty-free) for the foreign inputs noted below. Customs duties also could possibly be deferred or reduced on foreign status production equipment. The request indicates that the savings from FTZ procedures would help improve the plant's international competitiveness.

Uncoated textile fabrics sourced from abroad (representing some 22% of the value of the finished product) include the following: 100% polyester, 100% cotton dyed plain weave, and 62% cotton/38% polyester plain weave (duty rates range from 7 to 12%).

In accordance with the Board's regulations, Diane Finver of the FTZ Staff is designated examiner to evaluate and analyze the facts and information presented in the application and case record and to report findings and recommendations to the Board.

Public comment is invited from interested parties. Submissions shall be addressed to the Board's Executive Secretary at the address below. The closing period for their receipt is May 28, 2013. Rebuttal comments in response to material submitted during the foregoing period may be submitted during the subsequent 15-day period to June 10, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov (202) 482-1367.

Dated: March 21, 2013.
Andrew McGilvray,
Executive Secretary.

[FR Doc. 2013-06933 Filed 3-25-13; 8:45 am]

BILLING CODE 3510-DS-P